DEPARTMENT OF TRANSPORTATION

Surface Transportation Board

[STB Finance Docket No. 33956]

Kern Valley Railroad Company—Acquisition and Operation Exemption—Trinidad Railway, Inc.

Kern Valley Railroad Company (KVR), a noncarrier, has filed a verified notice of exemption under 49 CFR 1150.31 to acquire the railroad lines and other assets (line) of Trinidad Railway, Inc. (TRI) and has agreed to assume TRI's common carrier railroad obligations pending the line's abandonment.¹ The line extends from milepost 2.0, at Jensen, to the end of the line at milepost 30.0, at the former New Elk Mine, east of Stonewall, in Las Animas County, CO, a distance of approximately 30.0 miles.²

¹ The line is the subject of a notice of exemption for abandonment in Trinidad Railway, Inc.—Abandonment Exemption—in Las Animas County, CO, STB Docket No. AB-573X (STB served Sept. 21, 2000). By decision served October 20, 2000, the Board postponed the effective date of that exemption until November 30, 2000, pending completion of the offer of financial assistance (OFA) process or, if the OFA process terminated, a period to provide for interim trail use negotiations.

² TRI has retained a real estate interest in the right-of-way between milepost 15.11, in Segundo, and the end of the line subject to a permanent and irrevocable easement to KVR to fulfill its common carrier obligation, pending abandonment of the line, including access to the line for work on the tracks, ties and other track materials.

The transaction is scheduled to be consummated on or after November 13, 2000.

This transaction is related to STB Finance Docket No. 33957, Kern W. Schumacher and Morris H. Kulmer—Continuance in Control Exemption—Kern Valley Railroad Company, wherein Kern W. Schumacher and Morris H. Kulmer have concurrently filed a verified notice to continue in control of KVR upon its becoming a Class III rail carrier.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33956, must be filed with the Surface Transportation Board, Office of the Secretary, Case Control Unit, 1925 K Street, NW., Washington, DC 20423-0001. In addition, a copy of each pleading must be served on Fritz R. Kahn, Esq., 1920 N Street, NW., 8th Floor, Washington, DC 20036-1601.

Board decisions and notices are available on our website at WWW.STB.DOT.GOV.

Decided: November 13, 2000.
By the Board, David M. Konschnik, Director, Office of Proceedings.
Vernon A. Williams,
Secretary.

[FR Doc. 00-29609 Filed 11-20-00; 8:45 am]

BILLING CODE 4915-00-P